NUCLEAR REGULATORY COMMISSION

[Docket No. 40-9075; NRC-2009-0575]

Powertech (USA) Inc.; Dewey-Burdock Project; New Source Material License Application; Notice of Intent To Prepare a Supplemental Environmental Impact Statement

AGENCY: U.S. Nuclear Regulatory Commission.

ACTION: Notice of Intent (NOI).

SUMMARY: By letter dated August 10, 2009, Powertech (USA) (Powertech) submitted to the U.S. Nuclear Regulatory Commission (NRC) an application for a new source material license. The requested license, or the proposed action, would authorize the construction, operation, and decommissioning of Powertech's proposed in-situ uranium recovery (ISR, also known as in-situ leach) facilities, and would require restoration of the aquifer from which the uranium would be extracted. A notice of receipt and availability of the license application, including the Environmental Report (ER), and opportunity to request a hearing was published in the Federal Register on January 05, 2010 (75 FR 467-471).

The purpose of this notice of intent is to inform the public that the NRC will be preparing a site-specific Supplemental Environmental Impact Statement (SEIS) regarding the proposed action. The SEIS will tier off of the Generic Environmental Impact Statement for In-Situ Leach Uranium Milling Facilities (ISR GEIS) that was published in 2009. As outlined in 36 CFR 800.8, “Coordination with the National Environmental Policy Act,” the NRC plans to use the environmental review process set forth in its 10 CFR Part 51 regulations to coordinate compliance with Section 106 of the National Historic Preservation Act.

FOR FURTHER INFORMATION CONTACT: For general information on the NRC National Environmental Policy Act (NEPA) process or the environmental review process related to the Dewey- Burdock Uranium Project application, please contact the NRC Environmental Project Manager, Haimanot Yilma, at (301) 415-8029 or haimanot.yilma@nrc.gov.

Information and documents associated with the Dewey-Burdock Uranium Project, including the license application, are available for public review through our electronic reading room: http://www.nrc.gov/reading-rm/adams.html and on the NRC's Dewey-Burdock Uranium Project web page: http://www.nrc.gov/info-finder/materials/uranium/apps-in-review/dewey-burdock-new-app-review.html. Documents may also be obtained from NRC's Public Document Room at the U.S. Nuclear Regulatory Commission Headquarters, 11555 Rockville Pike (first floor), Rockville, Maryland.

SUPPLEMENTARY INFORMATION:

1.0 Background

Powertech submitted its application for a 10 CFR Part 40 license by letter dated August 10, 2009. A notice of receipt and availability of the license application, including the ER, and opportunity to request a hearing was published in the Federal Register on January 5, 2010 (75 FR 467471).

The NRC is required by 10 CFR 51.20(b)(8) to prepare an environmental impact statement (EIS) or supplement to an EIS for the issuance of a license to possess and use source material for uranium milling. The ISR GEIS and the site-specific SEIS will meet this regulatory requirement. The purpose of this NOI is to inform the public that the NRC staff, as part of its review of Powertech's application, is preparing a draft SEIS for public comment that will tier off of the ISR GEIS (NUREG-1910). While NRC's Part 51 regulations do not require scoping for SEISs, the NRC staff is planning to place ads in newspapers serving communities near the proposed site, requesting information and comments from the public regarding the proposed action. NRC staff may also use relevant information gathered during scoping for the GEIS to define the scope of the SEIS. In preparing the SEIS, the NRC staff is consulting with Bureau of Land Management; Region 8 Environmental Protection Agency; U.S. Fish & Wildlife Service; U.S. Army Corps of Engineers; South Dakota Department of Environment and Natural Resources; South Dakota State Historic Preservation Office; potentially interested Tribes and public interest groups; South Dakota Game and Fish Department; and the Forest Service.

The NRC has begun evaluating the potential environmental impacts associated with the proposed ISR facility in parallel with the ongoing safety review of the license application. The environmental evaluation will be documented in draft and final SEISs in accordance with NEPA and NRC's implementing regulations contained in 10 CFR Part 51.

2.0 Dewey-Burdock ISR Facilities

The facilities, if licensed, would include a central processing plant, satellite facility, accompanying wellfields (including injection and production wells), and ion exchange columns. The ISR process involves the dissolution of the water-soluble uranium from the mineralized host sandstone rock by pumping oxidants (oxygen or hydrogen peroxide) and chemical compounds (sodium bicarbonate) through a series of injection wells. The uranium-rich solution is transferred from production wells to either the central processing plant or satellite facility for uranium concentration using ion exchange columns. Final processing is conducted in the central processing plant to produce yellowcake, which would be sold to offsite facilities for further processing and eventual use as commercial fuel in nuclear power reactors.

3.0 Alternatives To Be Evaluated

No-Action—The no-action alternative would be to deny the license application. Under this alternative, the NRC would not issue the license. This serves as a baseline for comparison.

Proposed action—The proposed federal action is to issue a license authorizing the possession and use of source material at the proposed ISR facilities. The license review process analyzes the safety and environmental issues related to the construction, operation, and decommissioning of the ISR facilities, and the restoration of the aquifer from which the uranium would be extracted. The ISR facilities would be located near Edgemont, South Dakota in Custer and Fall River Counties. The applicant would be issued an NRC license under the provisions of 10 CFR Part 40.

Other alternatives not listed here may be identified through the environmental review process.

4.0 Environmental Impact Areas To Be Analyzed

The following areas have been tentatively identified for analysis in the SEIS:

• Land Use: Plans, policies, and controls;

• Transportation: Transportation modes, routes, quantities, and risk estimates;

• Geology and Soils: Physical geography, topography, geology, and soil characteristics;

• Water Resources: Surface and groundwater hydrology, water use and quality, and the potential for degradation;

• Ecology: Wetlands, aquatic, terrestrial, economically and recreationally; important species, and threatened and endangered species;

• Air Quality: Meteorological conditions, ambient background, pollutant sources, and the potential for degradation;

• Noise: Ambient, sources, and sensitive receptors;

• Historical and Cultural Resources: Historical, archaeological, and traditional cultural resources;

• Visual and Scenic Resources: Landscape characteristics, manmade features and viewshed;

• Socioeconomics: Demography, economic base, labor pool, housing, transportation, utilities, public services/facilities, and education;

• Environmental Justice: Potential disproportionately high and adverse impacts to minority and low-income populations;

• Public and Occupational Health: Potential public and occupational consequences from construction, routine operation, transportation, and credible accident scenarios (including natural events);

• Waste Management: Types of wastes expected to be generated, handled, and stored; and

• Cumulative Effects: Impacts from past, present, and reasonably foreseeable actions at and near the site(s).

This list is not intended to be all inclusive, nor is it a predetermination of potential environmental impacts.

5.0 The NEPA Process

The SEIS for the Dewey-Burdock Uranium Project will be prepared pursuant to the NRC's NEPA regulations at 10 CFR Part 51. The NRC will conduct its environmental review of the application and as soon as practicable, the NRC and its contractor will prepare and publish a draft SEIS. The NRC currently plans to have a 45-day public comment period for the draft SEIS. Availability of the draft SEIS and the dates of the public comment period will be announced in the Federal Register and the NRC Web site: http://www.nrc.gov. The final SEIS will include responses to public comments received on the draft SEIS.

Dated at Rockville, Maryland, this 12th day of January, 2010.
For the Nuclear Regulatory Commission.
Patrice M. Bubar,
Deputy Director, Environmental Protection and Performance Assessment Directorate, Division of Waste Management and Environmental Protection, Office of Federal and State Materials and Environmental Management Programs.

[FR Doc. 2010-955 Filed 1-19-10; 8:45 am]

BILLING CODE 7590-01-P